DEPARTMENT OF COMMERCE

National Oceanic and Atmospheric Administration

RIN 0648-XD913

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Scallop Advisory Panel to consider actions affecting New England fisheries in the exclusive economic zone (EEZ). Recommendations from this group will be brought to the full Council for formal consideration and action, if appropriate.

DATES: This meeting will be held on Thursday, May 14, 2015, at 9 a.m.

ADDRESSES:

Meeting address: The meeting will be held at the Courtyard by Marriott, 55 Jefferson Park Road, Warwick, RI, 02888; telephone: (401) 467-6900; fax: (401) 467-2666.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION: The Advisory Panel (AP) will meet to discuss several issues. First, the AP will review progress and make recommendations related to Amendment 19 alternatives. Amendment 19 is considering measures to address timing issues that inhibit implementation of fishery specifications at the start of the scallop fishing year (March 1). The Advisory Panel will also discuss an issue that has been raised at previous meetings related to scallop fishing space in near shore areas and issues of differential catch rates for general category and limited access vessels. The Council may have a workshop later in the year to discuss these issues further. The AP will also review a draft action plan for Framework 27 that will consider fishery specifications for 2016 and default measures for 2017. Finally, the Advisory Panel will discuss final research priority recommendations for the 2016 Scallop Research Set-Aside announcement. All recommendations will be forwarded to the Scallop Committee meeting that is scheduled several weeks later.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: April 22, 2015.
Tracey L. Thompson,
Acting Deputy Director, Office of Sustainable Fisheries, National Marine Fisheries Service.

[FR Doc. 2015-09669 Filed 4-24-15; 8:45 am]

BILLING CODE 3510-22-P